DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council will meet on May 11-12, 2011 in Los Angeles, CA. The meeting will be open to the public.

DATES: The National Advisory Council will meet Wednesday, May 11, 2011, from 10 a.m. PDT to 6 p.m. PDT and on Thursday, May 12, 2011, 8:30 a.m. PDT to 5:30 p.m. PDT. Please note that the meeting may close early if the committee has completed its business.

ADDRESSES: The meeting will be held at the Kyoto Grand Hotel, Golden Ballroom on the Banquet Level, 120 South Los Angeles Street, Los Angeles, CA 90012.

For information on facilities or services for individuals with disabilities or to request special assistance at the meeting, contact Patricia A. Kalla of the Office of the National Advisory Council as soon as possible.

To facilitate public participation, we are inviting public comment on the issues to be considered by the committee as listed in the “Agenda” section below. Written comments or requests to make oral presentations must be submitted in writing no later than April 29, 2011 and must be identified by Docket ID FEMA-2007-0008 and may be submitted by one of the following methods:

• Federal eRulemaking Portal: http://www.regulations.gov. Follow the instructions for submitting comments.

• E-mail: FEMA-RULES@dhs.gov. Include the Docket ID FEMA-2007-0008 in the subject line of the message.

• Fax: (703) 483-2999.

• Mail: Office of Chief Counsel, Federal Emergency Management Agency (Room 835), 500 C Street, SW., Washington, DC 20472-3100.

Instructions: All submissions received must include the words “Federal Emergency Management Agency” and the Docket ID FEMA-2007-0008 for this action. Comments received will be posted without alteration at http://www.regulations.gov, including any personal information provided.

Docket: For access to the docket to read background documents or comments received by the National Advisory Council, go to http://www.regulations.gov.

A public comment period will be held during the meeting on May 12, 2011 from 1:30 p.m. PDT to 2 p.m. PDT, and speakers are requested to register in advance, be present and seated by 10:45 a.m. PDT, and limit their comments to 3 minutes. Please note that the public comment period may start and end before the time indicated, if the committee has finished its business. Contact the individual listed in the FOR FURTHER INFORMATION CONTACT section to register as a speaker.

FOR FURTHER INFORMATION CONTACT: Patricia A. Kalla, The National Advisory Council Office, Federal Emergency Management Agency (Room 832), 500 C Street, SW., Washington, DC 20472-3100, telephone (202) 646-3746, fax (202) 646-3930, and e-mail FEMA-NAC@dhs.gov. The National Advisory Council Web site is located at: http://www.fema.gov/about/nac/.

SUPPLEMENTARY INFORMATION: Notice of this meeting is given under the Federal Advisory Committee Act, 5 U.S.C. App. (Pub. L. 92-463). The National Advisory Council (NAC) advises the Administrator of the Federal Emergency Management Agency (FEMA) on all aspects of emergency management. The NAC incorporates State, local, and Tribal governments, private sector, and nongovernmental partners' input in the development and revision of FEMA policies and strategies. FEMA's NAC Office serves as the focal point for all NAC coordination.

Agenda

The NAC will meet for the purpose of reviewing the progress and/or potential recommendations of the following NAC subcommittees: Preparedness and Protection, Response and Recovery, Public Engagement and Mission Support, and Federal Insurance and Mitigation. The NAC will hold discussions on professionalism of emergency management, approaches for National Incident Management System (NIMS) Credentialing implementation, and the Public Assistance (PA) Bottom-Up Review.

The NAC plans to discuss implementation of the credentialing process. FEMA's “NIMS Guideline for the Credentialing of Personnel” describes the process and standards for validating personnel qualifications and providing authorization, so that those personnel may perform specific functions and have specific access to an incident involving mutual aid. The credentialing process entails the objective evaluation and documentation of an individual's current certification, license, or degree; training and experience; and competence or proficiency to meet nationally accepted standards, provide particular services and/or functions, or perform specific tasks under specific conditions during an incident.

The NAC will discuss and take comment on the Bottom-Up Review. FEMA is currently performing a Bottom-Up Review to identify changes to improve the effectiveness and efficiency of the PA program. FEMA is approaching the Bottom-Up Review as an opportunity to re-evaluate the PA Program in its entirety and will consider new concepts for the operation of the PA Program, consistent with the FEMA's statutory authorities. FEMA's goal is to formulate and implement changes to the PA Program to provide grantees and subgrantees with the greatest flexibility possible in the use of PA funding, while ensuring program effectiveness and accountability for taxpayer dollars and compliance with Federal statutes and requirements.

Finally, the NAC may receive updates from FEMA offices regarding response, recovery, preparedness, and on the Regional Advisory Councils.

Dated: April 19, 2011.
W. Craig Fugate,
Administrator, Federal Emergency Management Agency.

[FR Doc. 2011-9901 Filed 4-22-11; 8:45 am]

BILLING CODE 9111-48-P